DEPARTMENT OF JUSTICE

Notice of Lodging of Consent Decree Pursuant to the Comprehensive Environmental Response, Compensation, and Liability Act

Notice is hereby given that on October 31, 2006, a proposed Consent Decree in United States v. CBS Co., et. al., No. 1-06-CV-2130 (M.D. Pa.), was lodged with the United States District Court for the Middle District of Pennsylvania. In this action, the United States sought to recover costs incurred in connection with the environmental cleanup of the Shriver's Corner Superfund Site in Adams County, Pennsylvania. The proposed Consent Decree requires Settling Defendants CBS Corporation and SPC Residential, LLC, who are currently undertaking response actions at the Site, to pay the United States $239,480 plus an additional sum for interest incurred up to the date of lodging of the proposed Consent Decree, and requires Settling Defendant the Estate of Sarah A. Culp to pay the United States the sum of $98,000. Under the proposed Consent Decree, the United States, on behalf of the Army, Department of the Navy, the Air Force, and Defense Logistics Agency, contributes $372,480 towards remedial costs incurred by the U.S. Environmental Protection Agency, and contributes $182,411 towards past costs incurred by CBS Corporation and SPC Residual, LLC. In exchange for these payments, the United States covenants not to sue Settling Defendants for past response costs, and Settling Defendants covenant not to sue the United States for past and future response costs.

The Department of Justice will receive comments relating to this Consent Degree for a period of thirty (30) days from the date of this publication. Comments should be addressed to the Assistant Attorney General, Environment and Natural Resources Division, P.O. Box 7611, U.S. Department of Justice, Washington, DC 20044-7611, and should refer to U.S. v. CBS, et al., D.J. #90-11-3-1651. The Consent Decree may be examined at the Office of the United States Attorney, Middle District of Pennsylvania, Federal Building, 228 Walnut Street, Harrisburg, PA 17108, c/o AUSA Michael Butler, and at U.S. EPA Region III, 1650 Arch Street, Philadelphia, PA 19103-2029, c/o Allison Gardner, Asst. Regional Counsel. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $12.50 (25 cents per page reproduction cost) payable to the U.S. Treasury or, if by e-mail or fax, forward a check in that amount to the Consent Decree Library at the stated address.

Henry Friedman,
Assistant Chief, Environmental Enforcement Section, Environment and Natural Resources Division.

[FR Doc. 06-9277 Filed 11-20-06; 8:45 am]

BILLING CODE 4410-15-M